THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority To Close Advisory Committee Meetings, dated July 19, 1993, I have determined that these meetings will be closed to the public pursuant to subsections (c)(4), and (6) of section 552b of Title 5, United States Code.

1. Date: April 1, 2010.

Time: 9 a.m. to 5 p.m.

Room: 421.

Program: This meeting will review applications for United States History in America's Historical and Cultural Organizations Grants Program, submitted to the Division of Public Programs at the January 13, 2010 deadline.

2. Date: April 5, 2010.

Time: 9 a.m. to 5 p.m.

Room: 402.

Program: This meeting will review applications for Institutes for Advanced Topics in the Digital Humanities, submitted to the Office of Digital Humanities at the February 17, 2010 deadline.

3. Date: April 7, 2010.

Time: 9 a.m. to 5 p.m.

Room: 421.

Program: This meeting will review applications for Music History in America's Media Makers Grants Program, submitted to the Division of Public Programs at the January 13, 2010 deadline.

4. Date: April 8, 2010.

Time: 9 a.m. to 5 p.m.

Room: 421.

Program: This meeting will review applications for United States History in Interpreting America's Historic Places Grants Program, submitted to the Division of Public Programs at the January 13, 2010 deadline.

5. Date: April 9, 2010.

Time: 9 a.m. to 5 p.m.

Room: 421.

Program: This meeting will review applications for World Cultures and Ethnicity in America's Historical and Cultural Organizations Grants Program, submitted to the Division of Public Programs at the January 13, 2010 deadline.

6. Date: April 12, 2010.

Time: 9 a.m. to 5 p.m.

Room: 421.

Program: This meeting will review applications for United States History in America's Media Makers Grants Program, submitted to the Division of Public Programs at the January 13, 2010 deadline.

7. Date: April 13, 2010.

Time: 9 a.m. to 5 p.m.

Room: 421.

Program: This meeting will review applications for United States History in Interpreting America's Historic Places Grants Program, submitted to the Division of Public Programs at the January 13, 2010 deadline.

8. Date: April 13, 2010.

Time: 9 a.m. to 5 p.m.

Room: 415.

Program: This meeting will review applications for Public Programming Organizations, submitted to the Office of Challenge Grants at the February 3, 2010 deadline.

9. Date: April 14, 2010.

Time: 9 a.m. to 5 p.m.

Room: 421.

Program: This meeting will review applications for Visual Cultures in America's Media Makers Grants Program, submitted to the Division of Public Programs at the January 13, 2010 deadline.

10. Date: April 15, 2010.

Time: 9 a.m. to 5 p.m.

Room: 421.

Program: This meeting will review applications for World History and Philosophy in America's Media Makers Grants Program, submitted to the Division of Public Programs at the January 13, 2010 deadline.

11. Date: April 19, 2010.

Time: 9 a.m. to 5 p.m.

Room: 421.

Program: This meeting will review applications for United States History in America's Media Makers Grants Program, submitted to the Division of Public Programs at the January 13, 2010 deadline.

12. Date: April 19, 2010.

Time: 8:30 a.m. to 5 p.m.

Room: 315.

Program: This meeting will review applications for Seminars and Institutes, submitted to the Division of Education Programs at the March 2, 2010 deadline.

13. Date: April 20, 2010.

Time: 8:30 a.m. to 5 p.m.

Room: 315.

Program: This meeting will review applications for Seminars and Institutes, submitted to the Division of Education Programs at the March 2, 2010 deadline.

14. Date: April 20, 2010.

Time: 9 a.m. to 5 p.m.

Room: 421.

Program: This meeting will review applications for Literature in America's Media Makers Grants Program, submitted to the Division of Public Programs at the January 13, 2010 deadline.

15. Date: April 21, 2010.

Time: 8:30 a.m. to 5 p.m.

Room: 315.

Program: This meeting will review applications for Seminars and Institutes, submitted to the Division of Education Programs at the March 2, 2010 deadline.

16. Date: April 22, 2010.

Time: 8:30 a.m. to 5 p.m.

Room: 315.

Program: This meeting will review applications for Seminars and Institutes, submitted to the Division of Education Programs at the March 2, 2010 deadline.

17. Date: April 22, 2010.

Time: 9 a.m. to 5 p.m.

Room: 421.

Program: This meeting will review applications for Art History in America's Historical and Cultural Organizations Grants Program, submitted to the Division of Public Programs at the January 13, 2010 deadline.

18. Date: April 22, 2010.

Time: 9 a.m. to 5 p.m.

Room: 415.

Program: This meeting will review applications for Colleges and Universities, submitted to the Office of Challenge Grants at the February 3, 2010 deadline.

19. Date: April 26, 2010

Time: 8:30 a.m. to 5 p.m.

Room: 315.

Program: This meeting will review applications for Seminars and Institutes, submitted to the Division of Education Programs at the March 2, 2010 deadline.

20. Date: April 27, 2010.

Time: 8:30 a.m. to 5 p.m.

Room: 315.

Program: This meeting will review applications for Seminars and Institutes, submitted to the Division of Education Programs at the March 2, 2010 deadline.

21. Date: April 28, 2010.

Time: 8:30 a.m. to 5 p.m.

Room: 315.

Program: This meeting will review applications for Seminars and Institutes, submitted to the Division of Education Programs at the March 2, 2010 deadline.

22. Date: April 29, 2010.

Time: 8:30 a.m. to 5 p.m.

Room: 315.

Program: This meeting will review applications for Seminars and Institutes, submitted to the Division of Education Programs at the March 2, 2010 deadline.

Michael P. McDonald,
Advisory Committee, Management Officer.

[FR Doc. 2010-5640 Filed 3-15-10; 8:45 am]

BILLING CODE 7536-01-P